NATIONAL COUNCIL ON DISABILITY

Sunshine Act Meetings

TIME AND DATES: The Members of the National Council on Disability (NCD) will hold a quarterly meeting on Monday, March 31, 2014, 11 a.m.-1 p.m. (Eastern). This meeting takes the place of the meeting previously noticed to have occurred on Monday, March 3, 2014, which was cancelled due to inclement weather.

PLACE: The meeting will occur by phone. NCD staff will participate in the call from the NCD office at 1331 F Street NW., Suite 850, Washington, DC 20004. Interested parties may join the meeting in person at the NCD office or may join the phone line in a listening-only capacity (other than the period allotted for by-phone public comment) using the following call-in number: 888-428-9490; Conference ID: 5307787; Conference Title: NCD Meeting; Host Name: Jeff Rosen.

MATTERS TO BE CONSIDERED: The Council will receive reports from its standing committees; receive panel presentations from policy experts on the Affordable Care Act; and receive its annual ethics training.

AGENDA: The times provided below are approximations for when each agenda item is anticipated to be discussed (all times Eastern):

11-11:30 a.m.—Call to Order and Council Committee Reports

11:30 a.m.-12:15 p.m.—Presentation on the Affordable Care Act (ACA), with presentations by Judy Solomon, Vice President for Health Policy, Center on Budget and Policy Priorities; Melissa Harris, Director, Division of Benefits and Coverage, Disabled and Elderly Health Programs Group, Center for Medicaid and CHIP Services, Centers for Medicare and Medicaid Services; Sharon Lewis, Principal Deputy Administrator, Administration for Community Living (ACL), U.S. Department of Health and Human Services:

12:15-12:30 p.m.—Public Comment on the Affordable Care Act

12:30-1 p.m.—Annual Ethics Training for NCD Council Members and Staff

1:00 p.m.—Meeting Adjourned

PUBLIC COMMENT: Due to NCD's focus on the Affordable Care Act (ACA) on this Council call, the brief public comment period available by phone will be used to receive only comments related to ACA. All those who are interested in making public comment regarding ACA by phone must register in advance by emailing PublicComment@ncd.gov and noting “Registration” in the subject line. Phone comment space is limited and will be accommodated on a first-registered, first-acknowledged basis until the time is filled. Commenters will be asked to limit their remarks to three minutes and are welcome to submit more detailed comments to the Council via email. The Council always welcomes all comments, regardless of topic, via email. NCD encourages those interested in raising an issue or concern to the Council's attention to email their thoughts to PublicComment@ncd.gov.

CONTACT PERSON FOR MORE INFORMATION: Anne Sommers, NCD, 1331 F Street NW., Suite 850, Washington, DC 20004; 202-272-2004 (V), 202-272-2074 (TTY).

ACCOMMODATIONS: A CART streamtext link has been arranged for this meeting. The web link to access CART is: http://www.streamtext.net/text.aspx?event=033114NCD1100am. Those who plan to attend the meeting in-person and require accommodations should notify NCD as soon as possible to allow time to make arrangements.

Please note: To help reduce exposure to fragrances for those with multiple chemical sensitivities, NCD requests that all those attending the meeting in person please refrain from wearing scented personal care products such as perfumes, hairsprays, colognes, and deodorants.

Dated: March 7, 2014.
Rebecca Cokley,
Executive Director.

[FR Doc. 2014-05357 Filed 3-7-14; 11:15 am]

BILLING CODE 6820-MA-P